DEPARTMENT OF VETERANS AFFAIRS

Privacy Act of 1974; System of Records

AGENCY: Department of Veterans Affairs (VA).

ACTION: Notice of Modified System of Records.

SUMMARY: As required by the Privacy Act of 1974, notice is hereby given that the Department of Veterans Affairs (VA) proposes to modify an existing system of records, Compensation, Pension, Education, and Vocational Rehabilitation and Employment Records—VA” (58VA21/22/28).

DATES: Comments on this modified system of records must be received no later than 30 days after date of publication in the Federal Register. If no public comment is received during the period allowed for comment or unless otherwise published in the Federal Register by VA, the modified system of records will become effective a minimum of 30 days after date of publication in the Federal Register. If VA receives public comments, VA shall review the comments to determine whether any changes to the notice are necessary.

ADDRESSES: Written comments may be submitted through http://www.regulations.gov/; by mail or hand-delivery to Director, Regulation Policy and Management (00REG), Department of Veterans Affairs, 810 Vermont Ave. NW, Room 1064, Washington, DC 20420; or by fax to (202) 273-9026 (not a toll-free number). Comments should indicate that they are submitted in response to 58VA21/22/28. Copies of comments received will be available for public inspection in the Office of Regulation Policy and Management, Room 1063B, between the hours of 8:00 a.m. and 4:30 p.m., Monday through Friday (except holidays). Please call (202) 461-4902 for an appointment. (This is not a toll-free number.) In addition, comments may be viewed online at http://www.regulations.gov/.

FOR FURTHER INFORMATION CONTACT: Michael F. Palmer, Program Analyst, Office of Business Process Integration, Department of Veterans Affairs, 810 Vermont Avenue NW, Washington, DC 20420 (336) 251-0392.

SUPPLEMENTARY INFORMATION: This system of records contains information regarding applicants for and beneficiaries of benefits chiefly administered by the Veterans Benefits Administration (VBA). This system is a core system for VBA programs. This system of records does not directly address health or memorial benefits administered respectively by the Veterans Health Administration or the National Cemetery Administration, the other two of the three Administrations within VA. This system was first published on March 3, 1976, and last amended on July 19, 2012, to include the addition of the Veterans Benefits Management System (VBMS) to this existing system of records, the establishment of the electronic claims folder (e-Folder) as the copy of record for Veterans claims processing; management, adjudication, and appeals; and to dispose of paper contents of a claims folder after the folder is electronically imaged. VBMS is the well-established, automated, fully electronic, Web-based claims processing system serving as the cornerstone of VBA's successful transition to paperless claims processing.

Expanding on the Department of Veterans Affairs System of Records Notification (SORN) of July 19, 2012, the Department proposes to reaffirm the establishment of the e-Folder as the official record for Veterans claims processing, management, adjudication, and appeals, and proposes the plan to properly dispose of paper duplicate copies and other physical media after imaging and upload into the e-Folder in accordance with Records Control Schedule VBA-1 Part 1 Section XIII, as authorized by the National Archives and Records Administration (NARA). VA also proposes to begin using the VBMS eFolder as an integrated benefits repository for records related to VA insurance and loan guarantee benefits. As such, this SORN has been updated accordingly, with the most notable changes being an increase to the number of Routine Uses (we have added Routine Use #2 and Routine Uses #75-83), and the type/number of Individuals Covered by this System (we have added Categories of Individuals Covered by this System #15-24). Please see applicable sections for further details. Complete information pertaining to the systems of records for the VA Loan Guaranty Program can be found in the 17VA26 SORN, entitled “Loan Guaranty Fee Personnel and Program Participant Records—VA,” and 55VA26 SORN, entitled “Loan Guaranty Home, Condominium and Manufactured Home Loan Applicants Records, Specially Adapted Housing Applicant Records and Vendee Loan Applicant Records-VA.” Complete information pertaining to the systems of records for VA Insurance can be found in the 36VA29 SORN, entitled “Veterans and Uniformed Services Personnel Programs of U.S. Government Life Insurance—VA.” Lastly, VA is adding internet protocol (IP) addresses as a type of record maintained in this system.

In 2012, VA partnered with the National Archives and Records Administration (NARA) to develop, test, and implement a “smart scanning” capability in support of the VBMS initiative. VA then began electronically imaging and uploading all incoming claims-related documentation into the VBMS eFolder. VA's current policy is: Once a paper document is scanned, the original paper source material is reclassified as a duplicate copy. The duplicate copy is then placed in storage at great taxpayer expense, and is not used in the claims adjudication process. The VBMS eFolder and the electronic images it contains are considered the official record, and are the exclusive means by which VA Decision Makers review claims-related documentation when processing a claim for Compensation or Pension benefits. The paper duplicate copies are not reviewed during the claims adjudication process; however, the mere storage of the paper duplicate copies has cost taxpayers in excess of $24 million to date. As VA's paperless modernization continues to expand, the cost of continued storage of all paper duplicate information is expected to exceed $500 million over the next ten years. Given the enormous expense of storing the paper duplicates compared to the minimal benefit conferred to Veterans, VA does not believe it can justify the cost of continuing to store paper duplicates. As such, VA is proposing that, after an extensive quality review and validation process to ensure completeness and accuracy of the electronic record, and a 3-year waiting period to ensure that all related claims and appeals have been completely and finally adjudicated, VA will dispose of paper duplicates in accordance with applicable laws and procedures. VA will continue to maintain the electronic images indefinitely as a permanent record.

We are adding Data breach response and remedial efforts to this SORN. VA may disclose information from this system to appropriate agencies, entities, and persons when (1) VA suspects or has confirmed that there has been a breach of the system of records; (2) VA has determined that as a result of the suspected or confirmed breach there is a risk of harm to individuals, VA (including its information systems, programs, and operations), and (3) the Federal Government, or national security; and the disclosure made to such agencies, entities, and persons is reasonably necessary to assist in connection with VA's efforts to respond to the suspected or confirmed breach or to prevent, minimize, or remedy such harm.

This routine use permits disclosures by the Department to respond to a suspected or confirmed data breach, including the conduct of any risk analysis or provision of credit protection services as provided in 38 U.S.C. 5724.

A federal agency's ability to respond quickly and effectively in the event of a breach of federal data is critical to its efforts to prevent or minimize any consequent harm. An effective response necessitates disclosure of information regarding the breach to those individuals affected by it, as well as to persons and entities in a position to cooperate, either by assisting in notification to affected individuals or playing a role in preventing or minimizing harms from the breach.

Often, the information to be disclosed to such persons and entities is maintained by federal agencies and is subject to the Privacy Act (5 U.S.C. 552a). The Privacy Act prohibits the disclosure of any record in a system of records by any means of communication to any person or agency absent the written consent of the subject individual, unless the disclosure falls within one of twelve statutory exceptions. In order to ensure an agency is in the best position to respond in a timely and effective manner, in accordance with 5 U.S.C. 552a(b)(3) of the Privacy Act, agencies should publish a routine use for appropriate systems specifically applying to the disclosure of information in connection with response and remedial efforts in the event of a data breach.

VA may disclose information from this system to another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

The narrative statement and an advance copy of the proposed changes have been sent to the appropriate Congressional committees and to the Director of the Office of Management and Budget (OMB) as required by title 5 U.S.C. 552a(r) (Privacy Act) and guidelines issued by OMB (65 FR 77677), December 12, 2000.

Signing Authority

The Senior Agency Official for Privacy, or designee, approved this document and authorized the undersigned to sign and submit the document to the Office of the Federal Register for publication electronically as an official document of the Department of Veterans Affairs. James B. Ford, Acting Executive Director, Privacy, Office of Quality, Privacy and Risk, Office of Information and Technology, approved this document on June 27, 2018 for publication.

Dated: February 11, 2019.
Amy L. Rose,
Program Analyst, VA Privacy Service, Office of Information Security, Office of Information and Technology, Department of Veterans Affairs.

System Name and Number

Compensation, Pension, Education, and Vocational Rehabilitation and Employment Records—VA (58VA21/22/28)

Security Classification:

This is an unclassified system.

System Location:

Records are maintained at VA regional offices, VA centers, the VA Records Management Center (RMC), St. Louis, Missouri, the Data Processing Center at Hines, Illinois, the Corporate Franchise Data Center in Austin, Texas, the VA Insurance Center and the Information Technology Center at Philadelphia, Pennsylvania, and Terremark Worldwide, Inc., Federal Hosting Facilities in Culpepper, Virginia, and Miami, Florida. Active educational assistance records are generally maintained at the regional processing office having jurisdiction over the educational institution, training establishment, or other entity where the claimant pursues or intends to pursue training.

The automated individual employee productivity records are temporarily maintained at the VA data processing facility serving the office in which the employee is located. Records provided to the Department of Housing and Urban Development (HUD) for inclusion on its Credit Alert Interactive Voice Response System (CAIVRS) are located at a data processing center under contract to HUD at Lanham, Maryland. Address locations of VA facilities are listed at: https://www.va.gov/landing2_locations.htm.

System Manager(s):

Director, Compensation Service (21C), 810 Vermont Avenue NW, VA Central Office, Washington, DC 20420.

Director, Pension and Fiduciary Service (21PF), 810 Vermont Avenue NW, VA Central Office, Washington, DC 20420.

Director, Education Service (22), 810 Vermont Avenue NW, VA Central Office, Washington, DC 20420.

Director, Vocational Rehabilitation and Employment Service (28), 810 Vermont Avenue NW, VA Central Office, Washington, DC 20420.

Authority for Maintenance of the System:

Title 10 U.S.C. chapters 106a, 510, 1606 and 1607 and title 38, U.S.C., § 501(a) and Chapters 3, 11, 13, 15, 18, 19, 21, 23, 30, 31, 32, 33, 34, 35, 36, 37, 39, 51, 53, 55 and 77. Title 5 U.S.C. 5514.

Purpose(s) of the System:

VA gathers or creates these records in order to enable it to administer statutory benefits programs to Veterans, Servicemembers, Reservists, and their spouses, surviving spouses, and dependents, who file claims for a wide variety of Federal Veteran's benefits administered by VA. See the statutory provisions cited in “Authority for maintenance of the system.”

Categories of Individuals Covered by the System:

The following categories of individuals are covered by this system.

1. Veterans who have applied for compensation for service-connected disability under title 38 U.S.C. chapter 11.

2. Veterans who have applied for nonservice-connected disability under title 38 U.S.C. chapter 15.

3. Veterans entitled to burial benefits under title 38 U.S.C. chapter 23.

4. Surviving spouses and children who have claimed pension based on nonservice-connected death of a Veteran under title 38 U.S.C. chapter 15.

5. Surviving spouses and children who have claimed death compensation based on service-connected death of a Veteran under title 38 U.S.C. chapter 11.

6. Surviving spouses and children who have claimed dependency and indemnity compensation for service-connected death of a Veteran under title 38 U.S.C. chapter 13.

7. Parents who have applied for death compensation based on service-connected death of a Veteran under title 38 U.S.C. chapter 11.

8. Parents who have applied for dependency and indemnity compensation for service-connected death of a Veteran under title 38 U.S.C. chapter 13.

9. Individuals who applied for educational assistance benefits administered by VA under title 38 U.S.C.

10. Individuals who applied for educational assistance benefits maintained by the Department of Defense (DoD) under title 10 U.S.C. that are administered by VA.

11. Veterans who apply for training and employers who apply for approval of their programs under the provisions of the Emergency Veterans' Job Training Act of 1983, Public Law 98-77.

12. Any VA employee who generates or finalizes adjudicative actions using the Benefits Delivery Network (BDN), the Veterans Service Network (VETSNET), or Veterans Benefits Management System (VBMS) computer processing systems.

13. Veterans who apply for training and employers who apply for approval of their programs under the provisions of the Service Members Occupational Conversion and Training Act of 1992, Public Law 102-484.

14. Representatives of individuals covered by the system.

15. Fee personnel who may be paid by the VA or by someone other than the VA (e.g., appraisers, compliance inspectors, management brokers, loan closing and fee attorneys who are not VA employees but are paid for actual case work performed).

16. Program participants (e.g., property management brokers and agents, real estate sales brokers and agents, participating lenders and their employees, title companies whose fees are paid by someone other than the VA, and manufactured home dealers, manufacturers, and manufactured home park or subdivision owners).

17. Disabled veterans who have applied for and received specially adapted housing assistance under title 38, U.S.C. chapter 21;

18. Veterans, their spouses or unmarried surviving spouses who have applied for and received VA housing credit assistance under title 38, U.S.C., chapter 37;

19. Person(s) applying to purchase VA owned properties (vendee loans);

20. Transferee owners of properties encumbered by a VA-guaranteed, insured, direct or vendee loan (e.g., individuals who have assumed a VA-guaranteed loan and those who have purchased property directly from the VA);

21. Individuals other than those previously identified who may have applied for loan guarantee benefits.

22. Veterans (not including dependents) and members of the uniformed services (including dependents) who have applied for and/or have been issued government life insurance.

23. Beneficiaries of government life insurance entitled to or in receipt of insurance proceeds.

24. Attorneys drawing fees for aiding in settlement of VA insurance claims. The individuals noted above are covered by this system based on applications, claims, and notices of eligibility for the following government life insurance programs provided in title 38 U.S.C. chapters 19 and 21:

(1) U.S. Government Life Insurance (USGLI) under Section 1942.

(2) National Service Life Insurance (NSLI) under Section 1904.

(3) Veterans' Special Life Insurance (VSLI) under Section 1923.

(4) Veterans' Reopened Insurance (VRI) under Section 1925.

(5) Service-Disabled Veterans Insurance (S-DVI) under Section 1922 and 1922A.

(6) Veterans' Mortgage Life Insurance (VMLI) under Section 2106.

(7) Servicemembers' Group Life Insurance (SGLI), including Family Servicemembers' Group Life Insurance (FSGLI), Veterans' Group Life Insurance (VGLI), and Servicemembers' Group Life Insurance Traumatic Injury Protection (TSGLI) under Sections 1967 through 1980A.

Categories of Records in the System:

The record, or information contained in the record, may include identifying information (e.g., name, address, social security number); military service and active duty separation information (e.g., name, service number, date of birth, rank, sex, total amount of active service, branch of service, character of service, pay grade, assigned separation reason, service period, whether Veteran was discharged with a disability, reenlisted, received a Purple Heart or other military decoration); payment information (e.g., Veteran payee name, address, dollar amount of readjustment service pay, amount of disability or pension payments, number of nonpay days, any amount of indebtedness (accounts receivable) arising from title 38 U.S.C. benefits and which are owed to the VA); medical information (e.g., medical and dental treatment in the Armed Forces including type of service-connected disability, medical facilities, or medical or dental treatment by VA health care personnel or received from private hospitals and health care personnel relating to a claim for VA disability benefits or medical or dental treatment); personal information (e.g., marital status, name and address of dependents, internet protocol addresses, occupation, amount of education of a Veteran or a dependent, dependent's relationship to Veteran); education benefit information (e.g., information arising from utilization of training benefits such as a Veteran trainee's induction, reentrance or dismissal from a program or progress and attendance in an education or training program); applications for compensation, pension, education and vocational rehabilitation benefits and training which may contain identifying information, military service and active duty separation information, payment information, medical and dental information, personal and education benefit information relating to a Veteran or beneficiary's incarceration in a penal institution (e.g., name of incarcerated Veteran or beneficiary, claims file number, name and address of penal institution, date of commitment, type of offense, scheduled release date, Veteran's date of birth, beneficiary relationship to Veteran and whether Veteran or beneficiary is in a work release or half-way house program, on parole or has been released from incarceration).

The VA employee's BDN, VETSNET or VBMS identification numbers, the number and kind of actions generated and/or finalized by each such employee, the compilation of cases returned for each employee.

Records (or information contained in records) may also include: Applications for certificates of eligibility (these applications generally contain information from a veteran's military service records except for character of discharge); applications for FHA Veterans' low-down payment loans (these applications generally contain information from a Veteran's military service records including whether or not a veteran is in the service); applications for a guaranteed or direct loan, applications for release of liability, applications for substitutions of VA entitlement and applications for specially adapted housing (these applications generally contain information relating to employment, income, credit, personal data; e.g., social security number, marital status, number and identity of dependents; assets and liabilities at financial institutions, profitability data concerning business of self-employed individuals, information relating to an individual Veteran's loan account and payment history on a VA-guaranteed, direct, or vendee loan on an acquired property, medical information when specially adapted housing is sought, and information regarding whether a Veteran owes a debt to the United States) and may be accompanied by other supporting documents which contain the above information; applications for the purchase of a VA acquired property (e.g., vendee loans—these applications generally contain personal and business information on a prospective purchaser such as social security number, credit, income, employment history, payment history, business references, personal information and other financial obligations and may be accompanied by other supporting documents which contain the above information); loan instruments including deeds, notes, installment sales contracts, and mortgages; property management information; e.g., condition and value of property, inspection reports, certificates of reasonable value, correspondence and other information regarding the condition of the property (occupied, vandalized), and a legal description of the property; information regarding VA loan servicing activities regarding default, repossession and foreclosure procedures, assumability of loans, payment of taxes and insurance, filing of judgments (liens) with State or local authorities and other related matters in connection with active and/or foreclosed loans; information regarding the status of a loan (e.g., approved, pending or rejected by the VA); Applications by individuals to become VA-approved fee basis appraisers, compliance inspector, fee attorneys, or management brokers. These applications include information concerning applicant's name, address, business phone numbers, social security numbers or taxpayer identification number, and professional qualifications; applications by non-supervised lenders for approval to close guaranteed loans without the prior approval of VA (automatically); applications by lenders supervised by Federal or State agencies for designation as supervised automatic lenders in order that they may close loans without the prior approval (automatically) of the VA; applications for automatic approval or designation contain information concerning the corporate structure of the lender, professional qualifications of the lender's officers or employees, financial data such as profit and loss statements and balance sheets to insure the firm's financial integrity; identifying information such as names, business names (if applicable), addresses, phone numbers and professional resumes of corporate officials or employees; corporate structure information on prior approval lenders, participating real estate sales brokers or agents, developers, builders, investors, closing attorneys or other program participants as necessary to carry out the functions of the Loan Guaranty Program; records of performance concerning appraisers, compliance inspectors, management brokers, or fee attorneys on both firms and individual employees; records of performance including disciplinary proceedings, concerning program participants; e.g., lenders, investors, real estate brokers, builders, fee appraisers, compliance inspectors and developers both as to the firm and to individual employees maintained on an as-needed basis to carry out the functions of the Loan Guaranty program; National Control Lists which identify suspended real estate brokers and agents, lenders and their employees, investors, manufactured home dealers and manufacturers, and builders or developers; and a master record of the National Control List (e.g., Master Control List) which includes information regarding parties previously suspended but currently reinstated to participation in the Loan Guaranty program in addition to all parties currently suspended.

Life insurance records (or information contained in records) may consist of:

1. Applications for insurance, including the name and address of the Veteran or member of the uniformed services, email address, phone number, correspondence to and from the veteran or member of the uniformed services or their legal representatives, date of birth, social security number, military service number, dates of service, military ranking, character of discharge, VA file number, plan or type of insurance, disability rating, medical information regarding disability and health history, method of payment, amount of insurance coverage requested, and bank routing and account numbers. Applications for Veterans' Mortgage Life Insurance (VMLI), including supporting mortgage documents, contain the address of the mortgaged property, name and address of the mortgagor, the mortgage account number, the rate of interest, the original amount of the mortgage, and the current amount of the mortgage, the monthly payment amount, the mortgage payment period, and VA Specially Adapted Grant Cards (which contain the Veteran's or uniformed services member's name, address, dates of military service, branch of service, method of separation, whether the Veteran or member of the uniformed services has VMLI, the name and address of the lender, the legal description and property address, improvements to such property, date applied for disability compensation, date of initial application submission, grant information, amount of the grant approved or whether the grant was denied or canceled).

2. Beneficiary and option designation information, including the names and addresses of principal and contingent beneficiaries, beneficiary social security number, share amount to each beneficiary, the method of payment, and the designated estate(s) and trust(s).

3. Insurance contract information, including: (a) Authorization of allotment payment; (b) authorization for deduction from VA benefit payments; (c) authorization for deduction from military retired pay; (d) authorization for deduction from employee payroll; (e) paid dividend information; (f) claims for disability or death payments; (g) cash value, policy loan, and lien information; (h) a listing of lapsed actions and unpaid insurance proceeds; (i) payment vouchers; (j) reinstatement information; (k) premium records status, and retired status of the policy; (l) court-martial orders; (m) copies of personal papers of the insured, including birth certificate, marriage license, divorce decree, citizen or naturalization papers, death certificate, adoption decree, and family support documents; (n) correspondence to and from the Veteran, member of the uniformed services, legal representative and payee; (o) employment information; (p) returned check and check tracer information; (q) court documents; and (r) insurance death claims settlement information, including indebtedness, interest, and other credits.

4. Records of checks withheld from delivery to certain foreign countries.

5. Index of payees, including CO index cards and premium record cards.

6. Disability Outreach Tracking System (DOTS) records stored in the Veterans Insurance Claims Tracking and Response System (VICTARS) including the Veteran's or uniformed services member's name, address, phone number, and disability status.

7. Policy information and access history from the VA Insurance website self-service-portal stored in VICTARS, which includes the name of the insured, file number, policy number, address, phone number, email address, loan status, including loan amount requested, denied, or pending, the date of request for information, loan history, policy changes, dividend option changes, and VA Insurance website pages accessed.

8. Information from the VA Insurance website, which provides access to Veterans for completion of an application for Service-Disabled Veterans Insurance (S-DVI), which includes the Veteran's name, address, social security number, date of birth, phone number, medical history, email address, and beneficiary information, such as the beneficiary's name, address, and social security number.

Record Source Categories:

Veterans, Servicemembers, Reservists, spouses, surviving spouses, dependents and other beneficiaries of the Veteran, accredited service organizations and other VA-approved representatives of the Veteran, VA-supervised fiduciaries (e.g., VA Federal fiduciaries, court-appointed fiduciaries), military service departments, VA medical facilities and physicians, private medical facilities and physicians, education and rehabilitation training establishments, State and local agencies, other Federal agencies including the Department of Defense (DoD), Social Security Administration (SSA); U.S. Treasury Department, State, local, and county courts and clerks, Federal, State, and local penal institutions and correctional facilities, other third parties and other VA records, Office of Servicemembers' Group Life Insurance (OSGLI); commercial insurance companies; undertakers; lending institutions holding a veteran's or uniformed services member's mortgage; VA Loan Guaranty records; contractors remodeling or enlarging or adding construction to existing homes; relatives and other interested persons; Westlaw and InfoUSA; Inquiry Routing & Information System (IRIS) (maintained under System of Records “151VA005N” by the Office of Information &Technology), brokers and builder/sellers, credit and financial reporting agencies, an applicant's credit sources, depository institutions and employers, independent auditors and accountants, hazard insurance companies, taxing authorities, title companies, fee personnel, business and professional organizations, the general public, and other parties of interest involving VA-guaranteed, insured, vendee or direct loans or specially adapted housing.

Routine Uses of Records Maintained in the System, Including Categories of Users and the Purposes of Such Uses:

1. Congress: VA may disclose information from the record of an individual in response to an inquiry from the congressional office made at the request of that individual.

VA must be able to provide information about individuals to adequately respond to inquiries from Members of Congress at the request of constituents who have sought their assistance.

2. Data breach response and remedial efforts: VA may, on its own initiative, disclose information from this system to appropriate agencies, entities, and persons when (1) VA suspects or has confirmed that there has been a breach of the system of records; (2) VA has determined that as a result of the suspected or confirmed breach there is a risk of harm to individuals, VA (including its information systems, programs, and operations), the Federal Government, or national security; and the disclosure made to such agencies, entities, and persons is reasonably necessary to assist in connection with VA's efforts to respond to the suspected or confirmed breach or to prevent, minimize, or remedy such harm.

a. Effective Response. A federal agency's ability to respond quickly and effectively in the event of a breach of federal data is critical to its efforts to prevent or minimize any consequent harm. An effective response necessitates disclosure of information regarding the breach to those individuals affected by it, as well as to persons and entities in a position to cooperate, either by assisting in notification to affected individuals or playing a role in preventing or minimizing harms from the breach.

b. Disclosure of Information. Often, the information to be disclosed to such persons and entities is maintained by federal agencies and is subject to the Privacy Act (title 5 U.S.C. 552a). The Privacy Act prohibits the disclosure of any record in a system of records by any means of communication to any person or agency absent the written consent of the subject individual, unless the disclosure falls within one of twelve statutory exceptions. In order to ensure an agency is in the best position to respond in a timely and effective manner, in accordance with title 5 U.S.C. 552a(b)(3) of the Privacy Act, agencies should publish a routine use for appropriate systems specifically applying to the disclosure of information in connection with response and remedial efforts in the event of a data breach.

3. Data breach response and remedial efforts with another Federal agency: VA may, on its own initiative, disclose information from this system to another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

4. Law Enforcement: VA may, on its own initiative, disclose information in this system, except the names and home addresses of Veterans and their dependents, which is relevant to a suspected or reasonably imminent violation of law, whether civil, criminal or regulatory in nature and whether arising by general or program statute or by regulation, rule or order issued pursuant thereto, to a Federal, state, local, tribal, or foreign agency charged with the responsibility of investigating or prosecuting such violation, or charged with enforcing or implementing the statute, regulation, rule or order. On its own initiative, VA may also disclose the names and addresses of Veterans and their dependents to a Federal agency charged with the responsibility of investigating or prosecuting civil, criminal or regulatory violations of law, or charged with enforcing or implementing the statute, regulation, rule or order issued pursuant thereto.

VA must be able to provide on its own initiative information that pertains to a violation of laws to law enforcement authorities in order for them to investigate and enforce those laws. Under title 38 U.S.C. 5701(a) and (f), VA may disclose the names and addresses of Veterans and their dependents to Federal entities with law enforcement responsibilities. This is distinct from the authority to disclose records in response to a qualifying request from a law enforcement entity, as authorized by Privacy Act subsection title 5 U.S.C. 552a(b)(7).

5. Litigation: VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

To determine whether to disclose records under this routine use, VA will comply with the guidance promulgated by the Office of Management and Budget in a May 24, 1985, memorandum entitled “Privacy Act Guidance—Update,” currently posted at https://www.whitehouse.gov/sites/whitehouse.gov/files/omb/assets/OMB/inforeg/guidance1985.pdf.

VA must be able to provide information to DoJ in litigation where the United States or any of its components is involved or has an interest. A determination would be made in each instance that under the circumstances involved, the purpose is compatible with the purpose for which VA collected the information. This routine use is distinct from the authority to disclose records in response to a court order under subsection (b)(11) of the Privacy Act, title 5 U.S.C. 552(b)(11), or any other provision of subsection (b), in accordance with the court's analysis in Doe v. DiGenova, 779 F.2d 74, 78-85 (D.C. Cir. 1985) and Doe v. Stephens, 851 F.2d 1457, 1465-67 (D.C. Cir. 1988).

6. Contractors: VA may disclose information from this system of records to individuals, organizations, private or public agencies, or other entities or individuals with whom VA has a contract or agreement to perform such services as VA may deem practicable for the purposes of laws administered by VA, in order for the contractor, subcontractor, public or private agency, or other entity or individual with whom VA has a contract or agreement to perform services under the contract or agreement.

This routine use includes disclosures by an individual or entity performing services for VA to any secondary entity or individual to perform an activity that is necessary for individuals, organizations, private or public agencies, or other entities or individuals with whom VA has a contract or agreement to provide the service to VA.

This routine use, which also applies to agreements that do not qualify as contracts defined by Federal procurement laws and regulations, is consistent with OMB guidance in OMB Circular A-130, App. I, paragraph 5a(1)(b) that agencies promulgate routine uses to address disclosure of Privacy Act-protected information to contractors in order to perform the services contracts for the agency.

7. Equal Employment Opportunity Commission (EEOC): VA may disclose information from this system to the EEOC when requested in connection with investigations of alleged or possible discriminatory practices, examination of Federal affirmative employment programs, or other functions of the Commission as authorized by law or regulation.

VA must be able to provide information to EEOC to assist it in fulfilling its duties to protect employees' rights, as required by statute and regulation.

8. Federal Labor Relations Authority (FLRA): VA may disclose information from this system to the FLRA, including its General Counsel, information related to the establishment of jurisdiction, investigation, and resolution of allegations of unfair labor practices, or in connection with the resolution of exceptions to arbitration awards when a question of material fact is raised; for it to address matters properly before the Federal Services Impasses Panel, investigate representation petitions, and conduct or supervise representation elections.

VA must be able to provide information to FLRA to comply with the statutory mandate under which it operates.

9. Merit Systems Protection Board (MSPB): VA may disclose information from this system to the MSPB, or the Office of the Special Counsel, when requested in connection with appeals, special studies of the civil service and other merit systems, review of rules and regulations, investigation of alleged or possible prohibited personnel practices, and such other functions promulgated in title 5 U.S.C. 1205 and 1206, or as authorized by law.

VA must be able to provide information to MSPB to assist it in fulfilling its duties as required by statute and regulation.

10. National Archives and Records Administration (NARA) and General Services Administration (GSA): VA may disclose information from this system to NARA and GSA in records management inspections conducted under title 44, U.S.C.

NARA is responsible for archiving old records which are no longer actively used but may be appropriate for preservation, and for the physical maintenance of the Federal government's records. VA must be able to provide the records to NARA in order to determine the proper disposition of such records.

11. The record of an individual who is covered by this system or records may be disclosed to a Member of Congress, or staff person acting for the member when, the member or staff person request the record on behalf of and at the written request of that individual.

12. Any information in this system may be disclosed to a Federal agency, upon its official request, to the extent that it is relevant and necessary to that agency's decision regarding: The hiring, retention or transfer of an employee; the issuance of a security clearance; the letting of a contract; or the issuance or continuance of a license, grant or other benefit given by that agency. However, in accordance with an agreement with the U.S. Postal Service, disclosures to the U.S. Postal Service for decisions concerning the employment of Veterans will only be made with the Veteran's prior written consent.

13. Any information in this system may be disclosed to a State or local agency, upon official request, to the extent that it is relevant and necessary to that agency's decision on: The hiring, retention or transfer of an employee; the issuance of a security clearance; the letting of a contract; or the issuance or continuance of a license, grant or other benefit by that agency including eligibility for unemployment compensation; provided, that if the information pertains to a Veteran, the name and address of the Veteran will not be disclosed unless the name and address are provided first by the requesting State or local agency.

14. VA may disclose on its own initiative any information in this system, except the names and home addresses of individuals, that are relevant to a suspected violation or reasonably imminent violation of law, whether civil, criminal or regulatory in nature and whether arising by general or program statue or by regulation, rule or order issued pursuant thereto, to a Federal, State, local, tribal, or foreign agency charged with the responsibility of investigating or prosecuting such violation, or charged with enforcing or implementing the statute, rule, regulation or order.

15. VA may disclose on its own initiative the names and addresses of individuals, that are relevant to a suspected violation or reasonably imminent violation of law, whether civil, criminal or regulatory in nature and whether arising by general or program statute or by regulation, rule or order issued pursuant thereto, to a Federal agency charged with the responsibility of investigating or prosecuting such violation or charged with enforcing or implementing the statue, regulation, rule or order.

16. The name and address of an individual, which is relevant to a suspected violation or reasonably imminent violation of law concerning public health or safety, whether civil, criminal or regulatory in nature an whether arising by general or program statute or by regulation, rule or order issued pursuant thereto, may be disclosed to any foreign, State or local governmental agency or instrumentality charged under applicable law with the protection of the public health or safety if a qualified representative of such organization, agency or instrumentality has made a written request that such name and address be provided for a purpose authorized by law.

17. The name, address, entitlement code (e.g., compensation or pension), period(s) of service, sex, and date(s) of discharge may be disclosed to any nonprofit organization if the release is directly connected with the conduct of programs and the utilization of benefits under title 38 U.S.C. Disclosures may be in the form of a computerized list.

18. Any information in this system, except for the name and address of an individual, may be disclosed to a Federal agency in order for VA to obtain information relevant to the issuance of a benefit under title 38 U.S.C. The name and address of an individual may be disclosed to a Federal agency under this routine use if they are required by the Federal agency to respond to the VA inquiry.)

19. Any information in this system may be disclosed in connection with any proceeding for the collection of an amount owed to the United States by virtue of a person's participation in any benefit program administered by VA when in the judgment of the Secretary, or official generally delegated such authority under standard agency delegation of authority rules (38 CFR 2.6), such disclosure is deemed necessary and proper, in accordance with title 38 U.S.C. 5701(b)(6).

20. The name and address of an individual, and other information as is reasonably necessary to identify such individual, may be disclosed to a consumer reporting agency for the purpose of locating the individual, or obtaining a consumer report to determine the ability of the individual to repay an indebtedness to the United States arising by virtue of the individual's participation in a benefits program administered by the VA, provided that the requirements of title 38 U.S.C. 5701(g)(2) have been met.

21. The name and address of an individual, and other information as is reasonably necessary to identify such individual, including personal information obtained from other Federal agencies through computer matching programs, and any information concerning the individual's indebtedness to the United States by virtue of the person's participation in a benefits program administered by VA, may be disclosed to a consumer reporting agency for purposes of assisting in the collection of such indebtedness, provided that the provisions of title 31 U.S.C. 3701-3702 and 3711-3718; and 38 U.S.C. 5701(g)(4) have been met.

22. Any information in this system, including available identifying information regarding the debtor, such as name of debtor, last known address of debtor, VA insurance number, VA loan number, VA claim number, place of birth, date of birth of debtor, name and address of debtor's employer or firm and dates of employment may be disclosed, under this routine use, except to consumer reporting agencies, to a third party in order to obtain current name, address, locator, and credit report in connection with any proceeding for the collection of an amount owed to the United States by virtue of a person's participation in any VA benefit program when in the judgment of the Secretary such disclosure is deemed necessary and proper. This purpose is consistent with the Federal Claims Collection Act of 1966 (Pub. L. 89-508, title 31 U.S.C. 951-953 and 4 CFR parts 101-105 and title 38 U.S.C. 5701(b)(6)).

23. Any information in this system, including the nature and amount of a financial obligation, may be disclosed to a debtor's employing agency or commanding officer so that the debtor-employee may be counseled by his or her Federal employer or commanding officer and to assist in the collection of unpaid financial obligations owed VA.

24. Payment information may be disclosed to the Department of the Treasury, in accordance with its official request, to permit delivery of benefit payments to Veterans or other beneficiaries.

25. Medical information may be disclosed in response to a request from the superintendent of a State hospital for psychotic patients, a commissioner or head of a State department of mental hygiene, or a head of a State, county or city health department or any fee basis physician or sharing institution in direct connection with authorized treatment for a Veteran, provided the name of the individual to whom the record pertains is given and the information will be treated as confidential, as is customary in civilian professional medical practice.

26. The name, address, VA file number, effective date of compensation or pension, current and historical benefit pay amounts for compensation or pension, service information, date of birth, competency payment status, incarceration status, and social security number of Veterans and their surviving spouses may be disclosed to the following agencies upon their official request: DoD; Defense Manpower Data Center; Marine Corps; Department of Homeland Security; Coast Guard; Public Health Service; National Oceanic and Atmospheric Administration and Commissioned Officer Corps in order for these departments and agencies and VA to reconcile the amount and/or waiver of service, department and retired pay. These records may also be disclosed as a part of an ongoing computer-matching program to accomplish these purposes. This purpose is consistent with title 10 U.S.C. 12316, title 38 U.S.C. 5304 and title 38 U.S.C. 5701.

27. The amount of pension, compensation, dependency and indemnity compensation, educational assistance allowance, retirement pay and subsistence allowance of any individual identified to VA may be disclosed to any person who applies for such information.

28. Identifying, personal, payment and medical information may be disclosed to a Federal, State, or local government agency at the request of a Veteran in order to assist the Veteran and ensure that all of the title 38 U.S.C. or other benefits to which the Veteran is entitled are received. This information may also be disclosed upon the request from a Federal agency, or to a State or local agency, provided the name and address of the Veteran is given beforehand by the requesting agency, in order to assist the Veteran in obtaining a non-title 38 U.S.C. benefit to which the Veteran is entitled. These records may also be disclosed as part of an ongoing computer-matching program to accomplish this purpose.

29. Any information in this system, which directly affects payment or potential payment of benefits to contesting claimants, including parties claiming an apportioned share of benefits, may be coequally disclosed to each affected claimant upon request from that claimant in conjunction with the claim for benefits sought or received.

30. Any information in this system, such as identifying information, nature of a claim, amount of benefit payments, percentage of disability, income and medical expense information maintained by VA which is used to determine the amount payable to recipients of VA income-dependent benefits and personal information, may be disclosed to the Social Security Administration (SSA), upon its official request, in order for that agency to determine eligibility regarding amounts of social security benefits, or to verify other information with respect thereto. These records may also be disclosed as part of an ongoing computer-matching program to accomplish this purpose.

31. VA may disclose an individual's identifying information to an educational institution, training establishment, or other entity which administers programs approved for VA educational assistance in order to assist the individual in completing claims forms, to obtain information necessary to adjudicate the individual's claim, or to monitor the progress of the individual who is pursuing or intends to pursue training at the request of the appropriate institution, training establishment, or other entity administrating approved VA educational programs or at the request of the Veteran.

32. Medical data (excluding the name and address of a Veteran unless the name and address are furnished by the requestor) may be disclosed to epidemiological and other research facilities approved by the Under Secretary for Health to obtain data from those facilities necessary to assist in medical studies on Veterans for VA or for any research purposes determined to be necessary and proper by the Under Secretary for Health.

33. The name(s) and address(es) of a Veteran may be disclosed to another Federal agency or to a contractor of that agency, at the written request of the head of that agency or designee of the head of that agency for the purpose of conducting government research necessary to accomplish a statutory purpose of that agency.

34. Any information in this system relevant to a Veteran's claim such as the name, address, the basis and nature of a claim, amount of benefit payment information, medical information and military service and active duty separation information may be disclosed at the request of the Veteran to accredited service organizations, VA- approved claims agents and attorneys acting under a declaration of representation so that these individuals can aid Veterans in the preparation, presentation and prosecution of claims under the laws administered by VA.

35. Identifying and payment information may be disclosed, upon the request of a Federal agency, to a State or local government agency, to determine a beneficiary's eligibility under programs provided for under Federal legislation and for which the requesting Federal agency has responsibility. These records may also be disclosed as a part of an ongoing computer-matching program to accomplish these purposes. This purpose is consistent with title 38 U.S.C. 5701.

36. Any information in this system such as the amount of benefit or disability payments and medical information may be disclosed in the course of presenting evidence to a court, magistrate, or administrative authority, in matters of guardianship, inquests, and commitments, to private attorneys representing Veterans rated incompetent in conjunction with issuance of Certificates of Incompetency, and to probation and parole officers in connection with court-required duties.

37. Any information in this system including medical information, the basis and nature of claim, the amount of benefits and personal information may be disclosed to a VA Federal fiduciary or a guardian ad litem in relation to his or her representation of a Veteran only to the extent necessary to fulfill the duties of the VA Federal fiduciary or the guardian ad litem.

38. Any relevant information (including changes in disability ratings) may be disclosed to the DOJ and United States Attorneys in the defense or prosecution of litigation involving the United States, and to Federal agencies upon their request in connection with review of administrative tort claims and potential tort claims filed under the Federal Tort Claims Act, title 28 U.S.C. 2672, the Military Claims Act, title 10 U.S.C. 2733, and other similar claims statutes.

39. Any information in this system including the name, social security number, date of birth, delimiting date and remaining entitlement of VA educational benefits, may be disclosed to the Department of Education (ED) upon its official request, or contractor thereof, for specific use by the ED to validate information regarding entitlement to VA benefits which is submitted by applicants who request educational assistance grants from the ED. The ED or contractor thereof will not use such information for any other purpose. These records may also be disclosed as part of an ongoing computer-matching program to accomplish this purpose.

40. VA may, at the request of the individual, disclose identifying information of an individual who is pursuing or intends to pursue training at an educational institution, training establishment, or other entity which administers programs approved for VA educational assistance in order for the VA to obtain sufficient information necessary to pay that individual or the educational or training establishment the correct monetary amounts in an expeditious manner. However, information will not be provided under this routine use to an educational institution, training establishment, or other entity when the request is clearly an attempt by that establishment to seek assistance in collection attempts against the individual.

41. Identifying information and information regarding the induction, reentrance and dismissal of a disabled Veteran from a vocational rehabilitation program may be disclosed at the request of the Veteran to a VA-approved vocational rehabilitation training establishment to ensure that the trainee receives the maximum benefit from training.

42. Identifying information and information regarding the extent and nature of a Veteran's disabilities with respect to any limitations to be imposed on the Veteran's vocational programs may be disclosed at the request of the Veteran to a VA-approved vocational rehabilitation training establishment to ensure that the trainee receives the maximum benefit from training.

43. Information regarding the type and amount of training/education received, and the name and address of a Veteran, may be disclosed at the request of a Veteran to local and State agencies and to prospective employers in order to assist the Veteran in obtaining employment or further training.

44. The name, claims file number and any other information relating to a Veteran's or beneficiary's incarceration in a penal institution and information regarding a dependent's right to a special apportionment of the incarcerated individual's VA benefit payment may be disclosed to those dependents who may be eligible for entitlement to such apportionment in accordance with title 38 U.S.C. 5313 and § 5307.

45. The name, claims file number and any other information relating to an individual who may be incarcerated in a penal institution may, pursuant to an arrangement, be disclosed to penal institutions or to correctional authorities in order to verify information concerning the individual's incarceration status. The disclosure of this information is necessary to determine that individual's continuing eligibility as authorized under title 38 U.S.C. 5313, § 5307. These records may also be disclosed as part of an ongoing computer-matching program to accomplish this purpose.

46. Identifying information, except for the name and address of a Veteran, may be disclosed to a State agency for the purpose of conducting a computer match to determine if income and employment data are being properly reported to VA and to detect the unwarranted payment of benefits under title 38 U.S.C.

47. Identifying, disability, and award (type, amount and reasons for award) information may be released to the Department of Labor (DOL) in order for the DOL to conduct a computer matching program against the Office of Workers' Compensation Programs Federal Employees Compensation File, DOL/ESA-13, published in 46 FR 12357 on February 13, 1981. This match will permit the DOL to verify a person's eligibility for DOL payments as well as to detect situations where recipients may be erroneously receiving concurrent multiple payments from the DOL and VA, to identify areas where legislative and regulatory amendments directed toward preventing overpayments are needed, and to collect debts owed to the United States Government. This matching program is performed pursuant to the DOL Inspector General's authority under Public Law 95-452, section 4(a) to detect and prevent fraud and abuse. This disclosure is consistent with title 38 U.S.C. 5701(b)(3).

48. The beneficiary's name, address, social security number and the amount (excluding interest) of any indebtedness waived under title 38 U.S.C. 5302, or compromised under 4 CFR part 103 may be disclosed to the Treasury Department, Internal Revenue Service (IRS), as a report of income under title 26 U.S.C. 61(a)(12).

49. Identifying information, including social security number, except for the name and address, may be disclosed to a Federal, State, County or Municipal agency for the purpose of conducting computer matches to obtain information to validate the entitlement of an individual, who is receiving or has received Veterans' benefits under title 10 or title 38 U.S.C. The name and address of individuals may also be disclosed to a Federal agency under this routine use if required by the Federal agency in order to provide information.

50. Identifying information, including the initials and abbreviated surname, the social security number, the date of birth and coding indicating the category of the individual's records, the degree of disability, the benefit program under which benefits are being paid and the computed amount of VA benefits for a calendar year may be released to the Department of the Treasury, and IRS, in order for IRS to conduct a computer matching program against IRS Forms 1040, Schedule R, Credit for the Elderly and the Permanently and Totally Disabled. This match will permit IRS to determine the eligibility for and the proper amount of Elderly and Disabled Credits claimed on IRS Form 1040, Schedule R. This matching program is performed pursuant to the provisions of Internal Revenue Code Section 7602. This disclosure is consistent with title 38 U.S.C. 5701(b)(3).

51. Identifying information, such as name, social security number, VA claim number, date and place of birth, etc., in this system may be disclosed to an employer or school having information relevant to a claim in order to obtain information from the employer or school to the extent necessary to determine that eligibility for VA compensation or pension benefits continues to exist or to verify that there has been an overpayment of VA compensation or pension benefits. Any information in this system also may be disclosed to any of the above-entitled individuals or entities as part of ongoing computer matching programs to accomplish these purposes.

52. The name of a Veteran, or other beneficiary, other information as is reasonably necessary to identify such individual, and any other information concerning the individual's indebtedness by virtue of a person's participation in a benefits program administered by VA, may be disclosed to the Treasury Department, IRS, for the collection of title 38, U.S.C. benefit overpayments, overdue indebtedness, and/or costs of services provided to an individual not entitled to such services, by the withholding of all or a portion of the person's Federal income tax refund.

53. Veterans' addresses which are contained in this system of records may be disclosed to the Defense Manpower Data Center, upon its official request, for military recruiting command needs, DoD civilian personnel offices' mobilization studies and mobilization information, debt collection, and Individual Ready Reserve Units' locator services.

54. The name, address, VA file number, date of birth, date of death, social security number, and service information may be disclosed to the Defense Manpower Data Center. DoD will use this information to identify retired Veterans and dependent members of their families who have entitlement to DoD benefits but who are not identified in the Defense Enrollment Eligibility Reporting System program and to assist in determining eligibility for Civilian Health and Medical Program of the Uniformed Services benefits. This purpose is consistent with title 38 U.S.C. 5701. These records may also be disclosed as part of an ongoing computer-matching program to accomplish this purpose.

55. The name, address, VA file number, social security number, sex of Veteran, date(s) of birth of the Veteran and dependents, current benefit pay amounts for compensation or pension, pay status, check amount, aid and attendance status, Veteran and spouse annual income amounts and type and combined degree of disability will be disclosed to the Department of Health and Human Services. The SSA will use the data in the administration of the Supplemental Security Income payment system as prescribed by Public Law 92-603. These records may also be disclosed as part of an ongoing computer-matching program to accomplish these purposes. This purpose is consistent with title 38 U.S.C. 5701.

56. The names and current addresses of VA beneficiaries who are identified by finance centers of individual uniformed services of DoD and the Department of Homeland Security (Coast Guard) as responsible for the payment of Survivor Benefit Plan (SBP) premium payments to be released from this system of records to them upon their official written request for such information for their use in attempting to recover amounts owed for SBP premium payments.

57. This routine use authorizes VA to compile lists of the social security numbers and loan account numbers of all persons with VA-guaranteed and portfolio loans in default, or VA loans on which there has been a foreclosure and the Department paid a claim and provide these records to HUD for inclusion in its CAIVRS. Information included in this system may be disclosed to all participating agencies and lenders who participate in the agencies' programs to enable them to verify information provided by new loan applicants and evaluate the creditworthiness of applicants. These records may also be disclosed as part of an ongoing computer-matching program to accomplish these purposes.

58. Identifying information including social security number, abbreviated surname, first and middle initial, date of birth, sex and claim number, and excluding the full name and address, may be disclosed to the SSA for the purpose of conducting a computer match to obtain information to validate the social security number maintained in VA records.

59. Any information contained in the files of Veterans whose claims were referred to VA Central Office for an advisory opinion concerning their claims that their disabilities were incurred secondary to occupational radiation exposure may be disclosed to the Department of the Navy. The information to be furnished to the Navy would include the medical opinions, dose estimates, advisory opinions, and rating decisions including Veterans' names, addresses, VA claim numbers, social security numbers and medical information. The requested information may be disclosed to the Department of the Navy upon receipt of its official written request for such information for its use in the review and assessment of its occupational radiation exposure controls and training.

60. A Veteran's claims file number and folder location may be disclosed to a court of proper jurisdiction that has issued a garnishment order for that Veteran under title 42 U.S.C. 659 through 660. An individual's identifying and payment information may be disclosed to the educational institution, training establishment, or other entity the individual attends (or attended) if that individual received educational assistance from VA based on training at that educational institution, training establishment, or entity. VA will disclose this information to assist the educational institution, training establishment, or other entity in verifying the individual's receipt of VA educational assistance and to assist the individual in applying for additional financial aid (e.g. student loans).

61. The name and address of a prospective, present, or former accredited representative, claims agent or attorney and any information concerning such individual which is relevant to a refusal to grant access privileges to automated Veterans' claims records, or a potential or past suspension or termination of such access privileges may be disclosed to the entity employing the individual to represent Veterans on claims for Veterans benefits.

62. The name and address of a former accredited representative, claim agent or attorney, and any information concerning such individual, except a Veteran's name and home address, which is relevant to a revocation of such access privileges may be disclosed to an appropriate governmental licensing organization where VA determines that the individual's conduct that resulted in revocation merits reporting.

63. A record from this system (other than the address of the beneficiary) may be disclosed to a former representative of a beneficiary to the extent necessary to develop and adjudicate a claim for payment of attorney fees to such representative from past-due benefits under title 38 U.S.C. 5904(d) and Public Law 109-461 or to review a fee agreement between such representative and the beneficiary for reasonableness under title 38 U.S.C. 5904(c)(2) and Public Law 109-461.

64. Disclosure of tax returns and return information received from the IRS may be made only as provided by title 26 U.S.C. 6103 (an IRS confidentiality statute) also covering any IRS tax return information provided as part of an ongoing computer matching program.

65. Where VA determines that there is good cause to question the legality or ethical propriety of the conduct of a person or organization representing a person in a matter before VA, a record from this system may be disclosed, on VA's initiative, to any or all of the following: (1) Applicable civil or criminal law enforcement authorities and (2) a person or entity responsible for the licensing, supervision, or professional discipline of the person or organization acting as a representative. Name and home addresses of Veterans and their dependents will be released on VA's initiative under this routine use only to Federal entities.

66. The name and address of a VA beneficiary, and other information as is reasonably necessary to identify such a beneficiary, who has been adjudicated as incompetent under 38 CFR 3.353, may be provided to the Attorney General of the United States or his/her designee, for use by the DOJ in the National Instant Criminal Background Check System mandated by the Brady Handgun Violence Prevention Act, Public Law 103-159.

67. Disclosure may be made to the National Archives and Records Administration (NARA) and General Services Administration in record management inspections and such other activities conducted under Authority of title 44 U.S.C.

68. VA may disclose information from this system of records to the DOJ, either on VA's initiative or in response to DOJ's request for the information, after either VA or DOJ determines that such information is relevant to DOJ's representation of the United States or any of its components in legal proceedings before a court or adjudicative body, provided that, in each case, the agency also determines prior to disclosure that release of the records to the DOJ is a use of the information contained in the records that is compatible with the purpose for which VA collected the records. VA, on its own initiative, may disclose records in this system of records in legal proceedings before a court or administrative body after determining that the disclosure of records to the court or administrative body is a use of the information contained in the records that is compatible with the purpose for which VA collected the records.

69. Disclosure of relevant information may be made to individuals, organizations, public or private agencies, or other entities with whom VA has a contract or agreement or where there is a subcontract to perform such services as VA may deem practicable for the purposes of laws administered by VA, in order for the contractor or subcontractor to perform the services of the contract or agreement.

70. Disclosure to other Federal agencies may be made to assist such agencies in preventing and detecting possible fraud, waste, overpayment, or abuse by individuals in their operations and programs as well as identifying areas where legislative and regulatory amendments directed toward preventing overpayments. These records may also be disclosed as part of an ongoing computer-matching program to accomplish this purpose.

71. VA may on its own initiative, disclose any information or records to appropriate agencies, entities, and persons when (1) VA suspects or has confirmed that the integrity or confidentiality of information in the system of records has been compromised; (2) VA has determined that as a result of the suspected or confirmed compromise, there is a risk of embarrassment or harm to the reputations of the record subjects, harm to the economic or property interests, identity theft or fraud, or harm to the programs (whether maintained by VA or another agency or entity) that rely upon the potentially compromised information; and (3) the disclosure is to agencies, entities, or persons whom VA determines are reasonably necessary to assist or carry out the VA's efforts to respond to the suspected or confirmed compromise and prevent, minimize, or remedy such harm. This routine use permits disclosures by VA to respond to a suspected or confirmed data breach, including the conduct of any risk analysis or provision of credit protection services as provided in title 38 U.S.C. 5724, as the terms are defined in title 38 U.S.C. 5727.

72. VA may disclose information to other Federal Agencies including, but not limited to, identifying information, payment information, and vocational objectives about a Veteran or Servicemember who is receiving or has received benefits under the Vocational Rehabilitation program to be used in data analysis and development of performance measures.

73. Any information contained in this system may be disclosed by VA, as deemed necessary, to DoD for use for determinations required by DoD. VA will routinely use the information to conduct medical evaluations needed to produce VA disability ratings and to promulgate subsequent claims for benefits under title 38 U.S.C.

74. Information in this system (excluding date of birth, social security number, and address) relating to the use of transferred educational assistance benefits may be coequally disclosed to the transferor, e.g., the individual from whom eligibility was derived, and to each transferee, e.g., the individual receiving the transferred benefit. The information disclosed is limited to the two parties in each transferor-transferee relationship, as the transferor may have multiple transferred relationships.

75. The name, address, insurance account information of an insured Veteran or member of the uniformed services, their beneficiary(ies), legal representatives, or designated payee(s), and the amount of payment may be disclosed to the Treasury Department, upon its official request, in order for the Treasury Department to make payment of dividends, policy loans, cash surrenders, maturing endowments, insurance refunds, issue checks and perform check tracer activities for the veteran or member of the uniformed services, beneficiary(ies), legal representative or designated payee(s).

76. The name and address of an insured Veteran or member of the uniformed services, date and amount of payments made to VA, including specific status of each policy (e.g., premiums paid in, dividends paid out, cash and loan values) may be disclosed to the Internal Revenue Service (IRS), upon its official request, in order for the IRS to collect tax liens by withholding insurance payments to satisfy unpaid taxes. This purpose is consistent with title 26 of the United States Code, § 7602.

77. The name, address, social security number, date of discharge from the military, medical information concerning the grounds for total disability or the nature of an injury or illness, and dependency or beneficiary related information of a member of the uniformed services or Veteran may be disclosed to the Office of Servicemembers' Group Life Insurance (OSGLI) at the request of a member of the uniformed services or Veteran in order to aid OSGLI in the verification of such information for the purpose of issuance and maintenance of insurance policies provided to members of the uniformed services or Veterans participating in the Servicemembers' Group Life Insurance (SGLI) program and/or Veterans' Group Life Insurance (VGLI) program and to pay insurance benefits under these programs.

78. The name, address, and other identifying information such as a social security number or a military service number may be disclosed to the Department of Defense (Army, Air Force, Navy, Marine Corps); the Coast Guard of the Department of Homeland Security; the Commissioned Officers Corps of the U.S. Public Health Service; and the Commissioned Officers Corps of the National Oceanic and Atmospheric Administration (NOAA) of the Department of Commerce; this disclosure may be made upon their official request, for use in order for these departments to establish and maintain allotments from active and retired service pay for VA insurance premiums and loan repayments.

79. The face amount and cash and/or loan value of an insurance policy, verification of an existing insurance policy, and the name and address of an insured Veteran or member of the uniformed services may be disclosed at the request of the veteran or member of the uniformed services to a Federal, State, or local agency, in order for these agencies to assist a veteran or member of the uniformed services applying for Medicaid, Medicare, nursing home admittance, welfare benefits, or other benefits provided by the requesting agency to the extent that the information is relevant and necessary to the agency's decision regarding benefits.

80. The name and address of a Veteran or member of the uniformed services and military service information (e.g., dates of service, branch of service) may be disclosed to the Armed Forces Institute of Pathology (AFIP), upon its official request, in order for the AFIP to conduct research for specified official purposes.

81. Any information in this system such as notice of renewal, reinstatement, premium due, lapse actions, miscellaneous insurance instructions, disposition of dividends, policy loans, and transfer of records may be disclosed to VA fiduciaries, court-appointed guardians/conservators, powers of attorney, or military trustees of incompetent Veterans or members of the uniformed services in order to advise VA fiduciaries, court-appointed guardians/conservators, powers of attorney, or military trustees of current actions to be taken in connection with ownership of U.S. government life insurance policies and to enable them to properly perform their duties as fiduciaries or guardians, powers of attorney, or military trustees.

82. Any information in this system of records may be disclosed, in the course of presenting evidence in or to a court, magistrate, administrative tribunal, or grand jury, including disclosures to opposing counsel in the course of such proceedings or in settlement negotiations.

83. Identifying information, except for the name and address of a Veteran or member of the uniformed services, may be disclosed to a Federal, State, County or Municipal agency for the purpose of conducting computer matches to obtain information to validate the entitlement of a Veteran or member of the uniformed services who is receiving or has received government insurance benefits under title 38 U.S.C. The name and address of a Veteran or member of the uniformed services may also be disclosed to a Federal agency under this routine use if they are required by the Federal agency to respond to the VA inquiry.

Policies and Practices for Storage of Records:

The BDN, Virtual VA, Corporate WINRS, VETSNET, The Image Management System (TIMS), Long Term Solution (LTS) and the VBMS are data telecommunication terminal systems. For Compensation and Pension-related claims, records (or information contained in records) are no longer maintained on paper documents in claims folders (C-folders), but are now 100% digitized and stored in the VBMS electronic folder (VBMS eFolder). In 2012, VA declared the VBMS eFolder to be the official record for all documentation submitted to VA pursuant to claims for Compensation and Pension benefits. All paper documents VA receives pursuant to a Compensation or Pension claim are converted to a digital image via VA's electronic imaging process and uploaded into the VBMS eFolder. An electronically-imaged document in the VBMS eFolder is the official copy of record for adjudicating claims for VA Compensation or Pension benefits. When VA decision makers adjudicate claims for Compensation or Pension benefits, they rely solely on the electronic image contained in the VBMS eFolder, irrespective of whether a document is initially submitted to VA in electronic or paper format. VA decision makers do not have access to the original paper source documents during the claims adjudication process. Once a paper source document is electronically imaged and uploaded into the eFolder, VA considers the electronic image to be the official copy of record, while the physical paper document is reclassified as a duplicate copy. All duplicate copies of the official record are subject to destruction in accordance with applicable procedures and laws (please see the Retention and Disposal section for further details.)

Vocational Rehabilitation and Employment (VR&E), and Education claims are maintained on paper and electronic folders and on automated storage media (e.g., microfilm, microfiche, magnetic tape and disks). Such information may be accessed through BDN, VBMS, Corporate WINRS, TIMS, LTS, and VETSNET terminals. BDN, Virtual VA, Corporate WINRS, VETSNET, and VBMS terminal locations include VA Central Office, regional offices, VA health care facilities, Veterans Integrated Service Network offices, DoD Finance and Accounting Service Centers and the U.S. Coast Guard Pay and Personnel Center. Remote on-line access is also made available to authorized remote sites, representatives of claimants and to attorneys of record for claimants. A VA claimant must execute a prior written consent or a power of attorney authorizing access to his or her claims records before VA will allow the representative or attorney to have access to the claimant's automated claims records. Access by representatives and attorneys of record is to be used solely for the purpose of assisting an individual claimant whose records are accessed in a claim for benefits administered by VA. Information relating to receivable accounts owed to VA, designated the Centralized Accounts Receivable System (CARS), is maintained on magnetic tape, microfiche and microfilm. CARS is accessed through a data telecommunications terminal system at St. Paul, Minnesota.

Policies and Practices for Retrieval of Records:

File folders, whether paper or electronic, are indexed by name of the individual and VA file number. Automated records are indexed by name, VA file number, payee name and type of benefit. Employee productivity is measured using automated systems. At the conclusion of a monthly reporting period, the generated listing is indexed by employee BDN identification number. Records in CAIVRS may only be retrieved by social security number.

Policies and Practices for Retention and Disposal of Records:

All claims files folders for Compensation and Pension claims are electronically imaged and uploaded into the VBMS eFolder. Once a file is electronically imaged and established by VA as the official record, its paper contents (with the exception of documents that are on hold due to pending litigation, and service treatment records and other documents that are the property of DoD), are reclassified as duplicate—non record keeping—copies of the official record, and will be destroyed in accordance with Records Control Schedule VB-1, Part 1 Section XIII, Item 13-052.100 as authorized by NARA. All paper documentation that is not the property of VA (e.g., DoD-owned documentation) is currently stored by VA after scanning, pending a policy determination as to its final disposition. All documentation being held pursuant to active litigation is held in its native format during the pendency of the litigation. All VBMS eFolders are stored on a secure VA server, pending permanent transfer to NARA where they will be maintained as historical records.

Prior to destruction of any paper source documentation reclassified as duplicate copies, VA engages in a comprehensive and multi-layered quality control and validation program to ensure material that has been electronically imaged is completely and accurately uploaded into the VBMS eFolder. To guarantee the integrity and completeness of the record, VA engages in industry-best practices, using state-of-the-art equipment, random sampling, independent audit, and 100% VA review throughout the claims adjudication process. Historically, VA's success rate in ensuring the accuracy and completeness of the electronic record routinely and consistently exceeds 99%. Furthermore, no paper document is ever destroyed while any related claim or appeal for VA benefits is still pending. VA waits 3 years after the final adjudication of any claim or appeal before destroying the paper duplicate copies that have been scanned into the VBMS eFolder. As noted, the electronic image of the paper document is retained indefinitely as a permanent record either by VA or NARA.

Decisions to destroy VR&E paper counseling records are to be made in accordance with Records Control Schedule (RCS), RCS VB-1, Part I, Field in Section VII, dated January 31, 2014. Automated storage media containing temporary working information are retained until a claim is decided, and then destroyed. All other automated storage media are retained and disposed of in accordance with disposition authorization approved by NARA. Education file folders in paper are retained at the servicing Regional Processing Office. Education paper folders may be destroyed in accordance with the times set forth in the VBA Records Management, Records Control Schedule VB-1, Part 1, Section VII, as authorized by NARA.

Employee productivity records are maintained for two years after which they are destroyed by shredding or burning. File information for CAIVRS is provided to HUD by VA on magnetic tape. After information from the tapes has been read into the computer the tapes are returned to VA for updating. HUD does not keep separate copies of the tapes.

Administrative, Technical, and Physical Safeguards:

1. Physical Security:

(a) Access to working spaces and claims folder file storage areas in VA regional offices and centers is restricted to VA employees on a need-to-know basis. Generally, file areas are locked after normal duty hours and the offices and centers are protected from outside access by the Federal Protective Service or other security personnel. Employee claims file records and claims file records of public figures are stored in separate locked files. Strict control measures are enforced to ensure that access to and disclosure from these claims file records are limited to a need-to-know basis. Duplicate paper copies after imaging are stored in NARA-compliant facilities, pending destruction.

(b) Access to BDN, Virtual VA, Corporate WINRS, VETSNET and VBMS data telecommunication networks are by authorization controlled by the site security officer who is responsible for authorizing access to the BDN, Virtual VA, VBMS and VETSNET by a claimant's representative or attorney approved for access in accordance with VA regulations. The site security officer is responsible for ensuring that the hardware, software and security practices of a representative or attorney satisfy VA security requirements before granting access. The security requirements applicable to the access of automated claims files by VA employees also apply to the access of automated claims files by claimants' representatives or attorneys. The security officer is assigned responsibility for privacy-security measures, especially for review of violation logs, information logs and control of password distribution, including password distribution for claimants' representatives.

(c) Access to data processing centers is generally restricted to center employees, custodial personnel, Federal Protective Service and other security personnel. Access to computer rooms is restricted to authorized operational personnel through electronic locking devices. All other persons provided access to computer rooms are escorted.

(d) Employee production records are identified by the confidential BDN and VETSNET employee identification number, and are protected by management/supervisory personnel from unauthorized disclosure in the same manner as other confidential records maintained by supervisors.

2. BDN, Virtual VA, VETSNET, and VBMS System Security:

(a) Usage of the BDN, Virtual VA, Corporate WINRS, VETSNET, and VBMS systems is protected by the usage of “login” identification passwords and authorized function passwords. The passwords are changed periodically. These same protections apply to remote access users.

(b) At the data processing centers, identification of magnetic tapes and disks containing data is rigidly enforced using labeling techniques. Automated storage media, which are not in use, are stored in tape libraries, which are secured in locked rooms. Access to programs is controlled at three levels: Programming, auditing and operations. Access to the data processing centers where HUD maintains CAIVRS is generally restricted to center employees and authorized subcontractors. Access to computer rooms is restricted to center employees and authorized operational personnel through electronic locking devices. All other persons granted access to computer rooms are escorted. Files in CAIVRS use social security numbers as identifiers. Access to information files is restricted to authorized employees of participating agencies and authorized employees of lenders who participate in the agencies' programs. Access is controlled by agency distribution of passwords. Information in the system may be accessed by use of a touch-tone telephone by authorized agency and lender employees on a “need-to-know” basis.

Record Access Procedures: Veterans and authorized parties have a statutory right to request a copy of or an amendment to a record in VA's possession at any time under the Freedom of Information Act (FOIA) and the Privacy Act (PA). VA has a decentralized system for fulfilling FOIA and PA requests. The type of information or records an individual is seeking will determine the location to which a request should be submitted. For records contained within a VA claims folder (Compensation and Pension claims), or military service medical records in VA's possession, the request will be fulfilled by the VA Records Management Center. Authorized requestors should mail or fax their Privacy Act or FOIA requests to: Department of Veterans Affairs, Claims Intake Center, P.O. Box 4444, Janesville, WI 53547-4444, Fax: 844-531-7818, DID: 608-373-6690.

For other benefits records maintained by VA (to include Vocational Rehabilitation & Employment, Insurance, Loan Guaranty or Education Service) submit requests to the FOIA/Privacy Act Officer at the VA Regional Office serving the individual's jurisdiction. Address locations for the nearest VA Regional Office are listed at VA Locations Link. Any individuals who have questions about access to records may also call 1-800-327-1000.

Contesting Record Procedures:

(See Record access procedures above.)

Notification Procedures: Any individual, who wishes to determine whether a record is being maintained in this system under his or her name or other personal identifier, or wants to determine the contents of such record, should submit a written request or apply in person to the nearest VA regional office or center. Address locations are listed at https://www.va.gov/landing2_locations.htm.

VA employees wishing to inquire whether the system of records contains employee productivity information about themselves should contact their supervisor at the regional office or center of employment.

Exemptions Promulgated for the System:

There is no category of records in this system that has been identified as exempt from any section of the Privacy Act.

History:

Compensation, Pension, Education, and Vocational Rehabilitation and Employment Records-VA (58VA21/22/28) was published on July 19, 2012 at 77FR42594.

[FR Doc. 2019-02315 Filed 2-13-19; 8:45 am]

BILLING CODE P